ENVIRONMENTAL PROTECTION AGENCY

40 CFR Part 300

[FRL-7565-3]

National Oil and Hazardous Substances Pollution Contingency Plan; National Priorities List

AGENCY: Environmental Protection Agency.

ACTION: Notice of intent for partial deletion of the Rocky Mountain Arsenal National Priorities List Site from the National Priorities List; second extension of public comment periods.

SUMMARY: The Environmental Protection Agency (EPA) Region 8 announced its intent to delete the Selected Perimeter Area (SPA, 68 FR 44259) and the Surface Deletion Area (SDA, 68 FR 44265) of the Rocky Mountain Arsenal National Priorities List Site (RMA/NPL Site) On-Post Operable Unit (OU) from the National Priorities List (NPL) on July 28, 2003. In response to a written request, EPA extended both public comment periods for an additional 30 days concluding on September 25, 2003 (68 FR 51221). EPA has received a request to further extend these public comment periods. In response, EPA is extending both public comment periods for an additional 30 days concluding on October 27, 2003.

The NPL constitutes appendix B of 40 CFR part 300 which is the National Oil and Hazardous Substances Pollution Contingency Plan (NCP), which EPA promulgated pursuant to section 105 of the Comprehensive Environmental Response, Compensation, and Liability Act (CERCLA).

EPA bases its proposal to delete the SPA and SDA portions of the RMA/NPL Site on the determination by EPA and the State of Colorado, through the Colorado Department of Public Health and Environment (CDPHE), that all appropriate actions under CERCLA have been implemented to protect human health, welfare, and the environment and that no further response action by responsible parties is appropriate. This basis for deleting the SPA and SDA from the RMA/NPL Site has not changed. The Federal Register notice for the SPA (68 FR 44259) and the SDA (68 FR 44265) provide a discussion of the bases for the intended partial deletions.

DATES: Comments concerning the proposed partial deletions may be submitted to EPA on or before October 27, 2003.

ADDRESSES: Comments may be mailed to: Catherine Roberts, Community Involvement Coordinator (80C), U.S. EPA, Region 8, 999 18th Street, Suite 300, Denver, Colorado 80202-2466, 1-800-227-8917 or (303) 312-6025.

Comprehensive information on the RMA/NPL Site, as well as information specific to both proposed partial deletions, is available through EPA's Region 8 Superfund Records Center in Denver, Colorado. Documents are available for viewing by appointment from 8 a.m. to 4 p.m., Monday through Friday excluding holidays by calling (303) 312-6473. The Administrative Record for the RMA/NPL Site and the Deletion Dockets for these partial deletions are maintained at the Joint Administrative Records Document Facility, Building 129, Room 2024, Commerce City, Colorado 80022-1748, (303) 289-0362. Documents are available for viewing from 12 p.m. to 4 p.m., Monday through Friday or by appointment.

FOR FURTHER INFORMATION CONTACT: Ms. Laura Williams, Remedial Project Manager (8EPR-F), U.S. EPA, Region 8, 999 18th Street, Suite 300, Denver, Colorado 80202-2466, (303) 312-6660.

Dated: September 29, 2003.
Robert E. Roberts,
Regional Administrator, Environmental Protection Agency, Region 8.

[FR Doc. 03-25402 Filed 10-6-03; 8:45 am]

BILLING CODE 6560-50-M